DEPARTMENT OF TRANSPORTATION

Federal Aviation Administration

Policy Statement No. ANM-02-115-20; Corded Electrical Devices

AGENCY: Federal Aviation Administration (FAA), DOT.

ACTION: Notice of proposed policy; request for comments.

SUMMARY: The Federal Aviation Administration (FAA) announces the availability of proposed policy that addresses potential hazards associated with the installation of corded electrical devices used in the passenger cabin.

DATES: Send your comments on or before September 30, 2002.

ADDRESSES: Address your comments to the individual identified under FOR FURTHER INFORMATION CONTACT.

FOR FURTHER INFORMATION CONTACT: Alan Sinclair, Federal Aviation Administration, Transport Airplane Directorate, Transport Standards Staff, Airframe and Cabin Safety Branch, ANM-115, 1601 Lind Avenue SW., Renton, WA 98055-4056; telephone (425) 227-2195; fax (425) 227-1149; e-mail: alan.sinclair@faa.gov.

SUPPLEMENTARY INFORMATION:

Comments Invited

The proposed policy is available on the Internet at the following address: http://www.faa.gov/certification/aircraft/anminfo/devpaper.cfm. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement ANM-02-115-20.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The proposed policy provides an applicant with various certification options, which will require little or no on-aircraft evaluation of corded devices, provided that these devices meet certain basic criteria. Examples of corded electrical devices are telephone handsets and video system controllers. This guidance supersedes the previously issued guidance in this area.

Issued in Renton, Washington, on August 15, 2002.
Neil D. Schalekamp,
Acting Manager, Transport Airplane Directorate, Aircraft Certification Service.

[FR Doc. 02-22121 Filed 8-29-02; 8:45 am]

BILLING CODE 4910-13-M